DEPARTMENT OF DEFENSE

Office of the Secretary

[Transmittal No. 05-13]

36(b)(1) Arms Sales Notification; Correction

AGENCY: Department of Defense, Defense Security Cooperation Agency (DSCA).

ACTION: Notice; Correction.

SUMMARY: DSCA published a document in the Federal Register of June 1, 2005, concerning the sale of defense articles and services to Australia. The package contained the wrong cover letter.

FOR FURTHER INFORMATION CONTACT: Paula Murphy, 703-604-6576.

Correction

In the Federal Register of June 1, 2005, in FR Doc 05-10829, page 31429, notification package containing the wrong cover letter and should be replaced with this correction.

Dated: June 3, 2005.
Jeannette Owings-Ballard,
OSD Federal Register Liaison Officer, Department of Defense.

BILLING CODE 5001-06-P

[FR Doc. 05-11624 Filed 6-10-05; 8:45 am]

BILLING CODE 5001-06-C